DEPARTMENT OF AGRICULTURE

Submission for OMB Review; Comment Request

August 21, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by September 25, 2015 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Small Lots of Seeds Without Phytosanitary Certificates.

OMB Control Number: 0579-0285.

Summary of Collection: Under the Plant Protection Act (PPA) (7 U.S.C. 7701-7772), the Secretary of Agriculture is authorized to prohibit or restrict the importation, entry, or movement of plants and plant pests to prevent the introduction of plant pests into the United States or their dissemination within the United States. The regulations contained in “Subpart-Nursery Stock, Plants, Roots, Bulbs, Seed, and Other Plant Products” (7 CFR 319.37 through 319.37-14), prohibit or restrict, among other things, the importation of living plants, plant parts, and seed for propagation. These regulations allow small lots of seed to be imported into the United States under an import permit with specific conditions, including seed packet labeling, as an alternative to a phytosanitary certificate requirement.

Need and Use of the Information: APHIS' Plant Protection and Quarantine Program will collect information using PPQ form 587 from person wishing to import regulated articles such as small lots of seed to request a permit from APHIS. On the form the requestor provides contact information as well as specifics about the regulated article such as the country of origin, the quantity and names of articles, means of importation, and their port of entry arrival. APHIS uses this information to determine if a permit should be issued and, if so, uses the information to issue said permit. A certificate of inspection in the form of a label is required to be attached to each carton of the articles and to an airway bill of lading or delivery tick accompanying the articles. Each seed packet must be clearly labeled with the name of the collector/shipper, the country or origin, and the scientific name at least to the genus level, and preferably to the species level. Without the information APHIS could not verify that imported nursery stock does not present significant risk of introducing plant pests and plant disease into the United States.

Description of Respondents: Individuals or households; Business or other for-profit.

Number of Respondents: 400.

Frequency of Responses: Reporting: On occasion.

Total Burden Hours: 400.

Title: Citrus Greening and Asian Citrus Psyllid; Quarantine and Interstate Movement Regulations.

OMB Control Number: 0579-0363.

Summary of Collection: The Plant Protection Act (7 U.S.C. 7701 et seq.) authorizes the Secretary of Agriculture either independently or in cooperation with the States, to carry out operations or measures to detect, eradicate, suppress, control, prevent, or retard the spread of plant pests (such as citrus canker) new or widely distributed throughout the United States. The Animal and Plant Health Inspection Service (APHIS) amended the “Domestic Quarantine Notices” in 7 CFR part 301 by adding a new subpart, “Citrus Greening and Asian Citrus Psyllid (ACP)” (§§ 301.76 through 301.76-11). Citrus greening, also known as Huanglonghing disease of citrus, is considered to be one of the most serious citrus diseases in the world.

Need and Use of the Information: APHIS will collect information using the following activity to address the risk associated with the interstate movement of citrus nursery stock and other regulated articles from areas quarantined for citrus greening: Limit Permit (PPO Form 530), Federal Certificate (PPO Form 540), Compliance Agreement (PPO Form 519), Label Statement, Recordkeeping, Attaching Tag to Bill of Lading, Cancellation of Certificates, Permits, and Compliance Agreements and 72 Hour Notification of Inspection. Failing to collect this information could cause a severe economic loss to the citrus industry.

Description of Respondents: Business or other for-profit.

Number of Respondents: 621.

Frequency of Responses:

Recordkeeping; Reporting: On occasion.

Total Burden Hours: 1.790.

Ruth Brown,
Departmental Information Collection Clearance Officer.

[FR Doc. 2015-21121 Filed 8-25-15; 8:45 am]

BILLING CODE 3410-34-P